ENVIRONMENTAL PROTECTION AGENCY

[EPA-HQ-OPP-2015-0324; FRL-9941-67]

Pesticide Product Registration; Receipt of Applications for New Uses; Correction and Reopening of Comment Period

AGENCY: Environmental Protection Agency (EPA).

ACTION: Notice; correction and reopening of comment period.

SUMMARY: EPA issued a notice in the Federal Register of January 13, 2016 (81 FR 1625) concerning Pesticide Product Registration; Receipt of Applications for New Uses. The notice inadvertently identified the applications listed as being new active ingredients rather than new uses. This document corrects that error and also reopens the comment period for an additional 15 days. EPA expects that anyone with an interest in this action would likely have been interested in the previous notices published for this chemical, and therefore already had proper notice. EPA is providing this extra 15 days as a courtesy. EPA has received applications to register new uses for pesticide products containing currently registered active ingredients. Pursuant to the Federal Insecticide, Fungicide, and Rodenticide Act (FIFRA), EPA is hereby providing notice of receipt and opportunity to comment on these applications.

DATES: Comments, identified by the docket identification (ID) listed in the body of this document, must be received on or before February 13, 2016.

ADDRESSES: Follow the detailed instructions as provided under 81 FR 1625 in the Federal Register document of January 13, 2016.

FOR FURTHER INFORMATION CONTACT: Susan Lewis, Registration Division (7505P), Office of Pesticide Programs, Environmental Protection Agency, 1200 Pennsylvania Ave. NW., Washington, DC 20460-0001; telephone number: (703) 305-7090; email address: RDFRNotices@epa.gov.

SUPPLEMENTARY INFORMATION:

I. General Information

A. Does this action apply to me?

The Agency included in the January 13, 2016, notice a list of those who may be potentially affected by this action.

B. How can I get copies of this document and other related information?

The docket for this action, identified by the following docket identification (ID) number: EPA-HQ-OPP-2015-0324 for Fluxapyroxad is available at http://www.regulations.gov or at the Office of Pesticide Programs Regulatory Public Docket (OPP Docket) in the Environmental Protection Agency Docket Center (EPA/DC), West William Jefferson Clinton Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

C. Why is the comment period being reopened?

This document reopens the public comment period for the Pesticide Product Registration; Receipt of Applications for New Uses notice, which was published in the Federal Register of January 13, 2016 (81 FR 1625) (FRL-9941-24). EPA is hereby reopening the comment period for 15 days because EPA has received applications to register new uses for pesticide products containing currently registered active ingredients. Pursuant to the provision of FIFRA section 3(c)(4) (7 U.S.C. 136a(c)(4)), EPA is hereby providing notice of receipt and opportunity to comment on these applications. Notice of receipt of these applications does not imply a decision by the Agency on these applications.

II. What does this correction do?

FR Doc. 2016-00537 published in the Federal Register of January 13, 2016, (81 FR 1625) (FRL-9941-24) is corrected as follows:

On page 1625, second column, under the heading Registration Applications, the first paragraph, correct to read “EPA has received an application to register pesticide products containing an active ingredient included in currently registered pesticides products.”

Authority: 7 U.S.C. 136 et seq.

Dated: February 3, 2015.
Susan Lewis,
Director, Registration Division, Office of Pesticide Programs.

[FR Doc. 2016-02694 Filed 2-9-16; 8:45 am]

BILLING CODE 6560-50-P